DEPARTMENT OF AGRICULTURE

Rural Business-Cooperative Service

Inviting Applications for Rural Business Opportunity Grants

AGENCY: Rural Business-Cooperative Service, USDA.

ACTION: Notice of Funding Availability (NOFA).

SUMMARY: USDA announces the availability of grants through the Rural Business Opportunity Grant (RBOG) Program for Fiscal Year (FY) 2014. Governmental entities, nonprofit corporations, institutions of higher education, and Indian tribes may apply. Approximately $2.25 million is available in reserved funding and will be distributed as follows: $1,330,180 is reserved for projects benefitting Federally Recognized Native American Tribes (“Native American”) in rural areas (see Pub. L. 113-76) and $919,820 is reserved until August 15, 2014 for projects benefitting Rural Economic Area Partnerships (“Partnerships”) (see P.L. 113-76, Sec. 746). Any Partnership funds unobligated after August 15, 2014, will be unreserved RBOG funds for business opportunity projects. Applications are limited to $100,000 or less. See 7 CFR part 4284, subpart G for additional program information.

DATES: Complete applications must be submitted on paper or electronically according to the following deadlines:

Paper applications must be postmarked and mailed, shipped, or sent overnight no later than June 17, 2014, to be eligible for FY 2014 grant funding. Paper applications should be sent to the state office located in the state where the project is located. An applicant may also hand carry their application to Rural Development field office, but it must be received by close of business on the deadline date.

If you would like to submit an electronic application, you must follow the instructions for the RBOG funding announcement on www.grants.gov. If you would like to submit an electronic application, your application must be received by http://www.grants.gov no later than midnight eastern time June 13, 2014, to be eligible for FY 2014 grant funding. You should review the Grants.gov Web site at http://grants.gov/applicants/organization_registration.jsp for instructions on the process of registering your organization as soon as possible to ensure that you are able to meet the electronic application deadline.

If you do not meet the deadline for submitting an electronic application, you may submit a paper application by the deadline as discussed above. Applications that are submitted after the above deadlines will not be eligible for FY 2014 grant funding.

ADDRESSES: You should contact a Rural Development State Office if you have questions or need a copy of the application forms. Applications may be submitted in electronic or paper format. If you submit an electronic application, you must follow the instructions for the RBOG funding announcement on www.grants.gov. If you want to submit a paper application, the application should be sent to the State Office located in the State where the project is located. In the case of a multi-state project, you must submit your application to the Rural Development State Office located in the State where the majority of the work will be conducted. You can find the address for your Rural Development State Office at: http://www.rurdev.usda.gov/StateOfficeAddresses.html.

FOR FURTHER INFORMATION CONTACT: Office of the Deputy Administrator, Cooperative Programs, Rural Business-Cooperative Service, United States Department of Agriculture, 1400 Independence Avenue SW, MS-3250, Room 4016-South, Washington, DC 20250-3250, (202) 720-7558.

SUPPLEMENTARY INFORMATION:

Overview

Federal Agency: Rural Business-Cooperative Service (RBS)

Funding Opportunity Type: Rural Business Opportunity Grants

Announcement Type: Initial Funding Announcement

Catalog of Federal Domestic Assistance Number: 10.773

Dates: To be eligible for FY 2014 funding, complete applications must be submitted on paper or electronically according to the following deadlines:

Paper applications must be postmarked and mailed, shipped, or sent overnight no later than June 17, 2014, to be eligible for FY 2014 grant funding. You may also hand carry your application to one of Rural Development's field offices, but it must be received by close of business on the deadline date. Late applications are not eligible for FY 2014 grant funding.

Electronic copies must be received by http://www.grants.gov no later than midnight eastern time June 13, 2014, to be eligible for FY 2014 grant funding. You should review the Grants.gov Web site at http://grants.gov/applicants/organization_registration.jsp for instructions on the process of registering your organization as soon as possible to ensure that you are able to meet the electronic application deadline.

If you do not meet the deadline for submitting an electronic application, you may submit a paper application by the deadline as discussed above. Late applications will not be eligible for FY 2014 grant funding.

I. Funding Opportunity Description

The RBOG Program is authorized under section 306(a)(11) of the Consolidated Farm and Rural Development Act (CONACT) (7 U.S.C. 1926(a)(11)). The regulations for this program are published at 7 CFR part 4284 subparts A and G, which are incorporated by reference in this Notice.

The primary objective of the program is to improve the economic conditions of rural areas. Assistance provided to rural areas under this program includes the following:

• Rural business incubators

• technology-based economic development

• feasibility studies and business plans

• long-term business strategic planning

• leadership and entrepreneur training

Definitions

The terms you need to know are published at 7 CFR 4284.3 and 4284.603. In addition, the term “you” referenced throughout this Notice should be understood to mean the applicant and the terms “we” and “us” should be understood to mean Rural Business-Cooperative Services, Rural Development, USDA. Finally, the term conflict of interest should be understood as follows.

Conflict of interest—A situation in which a person or entity has competing personal, professional, or financial interests that make it difficult for the person or business to act impartially. Federal procurement standards prohibit transactions that involve a real or apparent conflict of interest for owners, employees, officers, agents, or their immediate family members having a financial or other interest in the outcome of the project; or that restrict open and free competition for unrestrained trade. Specifically, project funds shall not be used for services or goods going to, or coming from, a person or entity with a real or apparent conflict of interest, including, but not limited to, owner(s) and their immediate family members. An example of a conflict of interest is when the grantee provides direct assistance to an organization in which it has an ownership interest. In cases of tribally-owned businesses, to avoid a conflict of interest, any business assisted by a tribe must be held through a separate entity, such as a tribal corporation. The separate entity may be owned by the tribe and distribute profits to the tribe. However, the entity's governing board must be independent from the tribal government and be elected or appointed for a specific time period. These board members must not be subject to removal without cause by the tribal government. The entity's board members must not, now or in the future, make up the majority of members of the tribal council or be members of the tribal council or other governing board of the tribe.

II. Award Information

Type of Award: Competitive Grant

Fiscal Year Funds: FY 2014

Total Funding: $2.25 million to be distributed as follows: $1,330,180 for projects benefitting Native Americans in rural areas and $919,820 for projects benefitting Partnerships. Any Partnership funds unobligated after August 15, 2014, will be unreserved RBOG funds for business opportunity projects.

Maximum Award: $100,000

Anticipated Award Date: September 1, 2014.

III. Eligibility Information

A. Eligible Applicants

Grants may be made to governmental entities, nonprofit corporations, institutions of higher education, and Indian tribes.

You must obtain a Dun and Bradstreet Data Universal Numbering System (DUNS) number (see Section IV.B.) and register in the System for Awards Management (SAM, formerly managed by the Central Contractor Registry (CCR)) prior to submitting an application. (See 2 CFR 25.200(b).) In addition, you must maintain your registration in SAM during the time your application is active. Finally, you must have the necessary processes and systems in place to comply with the reporting requirements in 2 CFR 170.200(b), as long as you are not exempted from reporting. Exemptions are identified at 2 CFR 170.110(b).

For additional information on applicant eligibility, see 7 CFR 4284.620.

B. Cost Sharing or Matching

Matching funds are not required.

C. Other Eligibility Requirements

An application must propose to use project funds, including grant and other contributions committed under the evaluation criterion located at 7 CFR 4284.639, for eligible purposes (see 7 CFR 4284.621). Also, the proposed project must benefit a rural area; thus, all ultimate recipients of services provided through the project must either reside in a rural area (if an individual) or be located in a rural area (if a business).

D. Ineligible Costs

Project funds, including grant and other contributions, cannot be used for ineligible purposes (See the Federal Acquisition Regulation and 7 CFR 4284.10 and 4284.629). Also, you shall not use project funds for the following:

• To duplicate current services or replace or substitute support previously provided. In particular, project funds cannot be used to pay for the salaries and benefits of existing employees and/or positions, except in cases when the project will require that an existing part-time employee/position be converted to a full-time employee/position to accomplish project tasks. In that case, the difference between the part-time salary and benefits and the full-time salary and benefits can be charged to the project. Additionally, new staff, consultants, or contractors that will be hired for the project can be paid for with project funds.

• To perform construction activities, including renovations;

• To plan a facility;

• To perform engineering work;

• To set up and operate revolving loan funds;

• To install or purchase demonstration equipment;

• To buy input supplies (for example, beads, food, and metal) for technical training on production or processing methods;

• To provide assistance to only one individual, organization, or business;

• To conduct industry-level feasibility studies unless you provide evidence in the application that the producers of the product have specifically requested that your organization performs the study;

• To pay general operating costs of any organization, including the applicant and any project beneficiaries; and

• To engage in any activities that are considered a Conflict of Interest, as defined by this Notice.

If you include funds in your budget that are for ineligible purposes, we will consider the application for funding if the ineligible purposes total 10 percent or less of an applicant's total project budget. However, if the application is successful, those ineligible costs must be removed from the work plan and budget before we will make the grant award. If we cannot determine the percentage of ineligible costs, the application will not be considered for funding.

Finally, if you have an existing RBOG award, you must be performing satisfactorily to be considered eligible for a new award. Satisfactory performance includes, but is not limited to, being up-to-date on all financial and performance reports and being current on all tasks as approved in the work plan.

D. Completeness Eligibility

An application will not be considered for funding if it does not provide sufficient information to determine eligibility or is missing required elements. For more information on application requirements, see 7 CFR 4284.638.

IV. Application and Submission Information

A. Address to Request Application Package

For further information, you should contact your respective Rural Development State Office. Instructions for identifying Rural Development State Offices can be found in the ADDRESSES section of this Notice. Program information may also be obtained at: http://www.rurdev.usda.gov/bcp_rbog.html.

B. Form of Submission

You may submit an application in paper form or electronically. If you submit an application in paper form, any forms requiring signatures must include an original signature.

To submit an application electronically, you must use the Grants.gov Web site at: http://www.grants.gov. You may not submit an application electronically in any way other than through Grants.gov.

• When you enter the Grants.gov Web site, you will find information about submitting an application electronically through the site, as well as the hours of operation.

• To use Grants.gov, you must have a Dun and Bradstreet Data Universal Numbering System (DUNS) number, which can be obtained at no cost via a toll-free request line at (866) 705-5711. We strongly recommend that you do not wait until the application deadline date to begin the application process through Grants.gov.

• Before submitting an application, you must also be registered and maintain registration in SAM (formerly the CCR database). (See 2 CFR part 25.) You may register in SAM at https://www.sam.gov/portal/public/SAM/.

• You must submit all of your application documents electronically through Grants.gov.

• After electronically submitting an application through Grants.gov, you will receive an automatic acknowledgement from Grants.gov that contains a Grants.gov tracking number.

• You may be required to provide original signatures on forms at a later date.

• You can locate the Grants.gov downloadable application package for this program by using a keyword, the program name, the Catalog of Federal Domestic Assistance Number, or the Funding Opportunity Number.

C. Application Contents

An application must contain all of the required forms and application elements described in 7 CFR 4284.638 and as otherwise clarified in this Notice. Further clarification of the application requirements is as follows:

1. Standard Form (SF) 424, “Application for Federal Assistance.” Your DUNS number should be identified in the “Organizational DUNS” field. Additionally, you must provide a Commercial and Government Entity (CAGE) code and expiration date. Because there are no specific fields for a CAGE code and expiration date, you may identify them anywhere you want to on the form. If you do not include the CAGE code and expiration date and the DUNS number in your application, it will not be considered for funding.

2. You must include a project work plan that identifies each task to be performed, along with the time period of performance and key personnel (if known) for each task, the amounts of grant funds and other contributions needed for each task, and clear deliverables for each task. If you expect to earn program income during the project period, you must include it in your budget. Program income can include fees collected from businesses assisted by the project. See 7 CFR 3016.25 and 3019.24.

3. For Partnership applications only, you must include the benchmark(s) from your Partnership zone's strategic plan that your project supports.

D. Submission Date and Time

Application Deadline date: For electronic applications, the deadline date is June 13, 2014. For paper applications, the deadline date is June 17, 2014.

Explanation of Deadlines: Complete paper applications must be postmarked and mailed, shipped, or sent overnight no later than June 17, 2014, to be eligible for FY 2014 grant funding. You may also hand carry your application to one of Rural Development's field offices, but it must be received by close of business on the deadline date. Electronic applications submitted through Grants.gov will be accepted by the system through midnight eastern time on the June 13, 2014. Late applications are not eligible for FY 2014 funding.

E. Intergovernmental Review

Executive Order (EO) 12372, “Intergovernmental Review of Federal Programs,” applies to this program. This EO requires that Federal agencies provide opportunities for consultation on proposed assistance with State and local governments. Many States have established a Single Point of Contact (SPOC) to facilitate this consultation. For a list of States that maintain a SPOC, please see the White House Web site: http://www.whitehouse.gov/omb/grants_spoc. If your State has a SPOC, you may submit a copy of the application directly for review. Any comments obtained through the SPOC must be provided to your Rural Development State Office for consideration as part of your application. If your State has not established a SPOC, or if you do not want to submit a copy of your application, our State Office will submit your application to the SPOC or other appropriate agency or agencies.

F. Environmental Review

Applications for financial assistance are subject to an environmental review. However, if an application is for technical assistance or planning purposes, it is generally excluded from the environmental review process (See 7 CFR 1940.310(e)(1)). We will ensure that any required environmental review is completed prior to approval of an application or obligation of funds.

V. Application Review Information

We will review each application to determine if it is eligible for assistance based on the requirements in 7 CFR part 4284, subpart G as well as other applicable Federal regulations. Eligible applications will be initially scored by the USDA Rural Development State Offices and submitted to the National Office for final review and selection. Applications must have a minimum score of 60 points, prior to the addition of any Administrator discretionary points, or they will not be funded, regardless of the amount of available funds. Applications will be funded in rank order.

You must address each selection criterion outlined in 7 CFR 4284.639 in your application. Any criterion not substantively addressed will receive zero points.

To assist you with addressing each criterion, we are providing what we consider to be necessary documentation along with an explanation of how we will score each criterion below.

1. Sustainability of Economic Development (7 CFR 4284.639(a)). You must identify the economic development (see 7 CFR 4284.603 for a definition) that will occur as a result of their project and describe how that development will be sustainable without any assistance from governments (including local, State, and Federal) or other organizations outside the community. Sustainability may include, but is not limited to, user fees or a continuing source of funds from a community organization. We will score the criterion as follows:

• 0 points if you do not identify at least one type of economic development.

• 1-2 points if you identify at least one type of economic development, but are unable to reasonably quantify it or demonstrate sustainability.

• 3-4 points if you identify at least one type of economic development and reasonably quantify it.

• 5-6 points if you identify at least one type of economic development, reasonably quantify it, and demonstrate that it can be sustained for at least 1 year after the completion of the project through user fees, community organization support, or other non-governmental methods.

• 7-8 points if you identify at least one type of economic development, reasonably quantify it, and demonstrate that it can be sustained for at least 3 years after the completion of the project through user fees, community organization support, or other non-governmental methods.

• 9-10 points if you identify at least one type of economic development, reasonably quantify it, and demonstrate that it can be sustained for at least 5 years after the completion of the project through user fees, community organization support, or other non-governmental methods.

2. Improvements in the Quality of Economic Activity (7 CFR 4284.639(b)). You must quantitatively describe how your project will improve the economic activity in your service area through higher wages, improved benefits, greater career potential, and/or the use of higher level skills than are currently typical. We will score the criterion as follows:

• 0 points if you do not quantitatively describe at least one way your project will improve the economic activity in your service area.

• 1-2 points if you quantitatively describe one way your project will improve the economic activity in your service area.

• 3-4 points if you quantitatively describe two ways your project will improve the economic activity in your service area.

• 5-6 points if you quantitatively describe three ways your project will improve the economic activity in your service area.

• 7-8 points if you quantitatively describe four ways your project will improve the economic activity in your service area.

• 9-10 points if you quantitatively describe five or more ways your project will improve the economic activity in your service area.

3. Other Contributions (7 CFR 4284.639(c)). You must provide documentation indicating who will be providing the other source of funds, the amount of funds, when those funds will be provided, and how the funds will be used in the project budget. Examples of acceptable documentation include: a signed letter from the source of funds stating the amount of funds, when the funds will be provided, and what the funds can be used for or a signed resolution from your governing board authorizing the use of a specified amount of funds for specific components of the project. The other contributions you identify must be specifically dedicated to the project and cannot include your organization's general operating budget. No credit will be given for in-kind donations of time, goods, and/or services from any organization, including the applicant organization. Additionally, we will not consider program income or expected revenue as other contributions, unless a commitment letter from the organization that will be paying the fees provides a letter stating the amount of the funds that will be paid, when they will be paid, and what they can be used for, if applicable. If you choose, you may use a template to summarize the other contributions. The template is available either from your Rural Development State Office or the program Web site at: http://www.rurdev.usda.gov/bcp_rbog.html. We will score the criterion as follows:

• 0 points if your other contributions total 25 percent or less of the total project cost.

• 10 points if your other contributions are greater than 25 and less than or equal to 50 percent of the total project cost.

• 20 points if your other contributions are more than 50 percent and less than or equal to 80 percent of the total project cost.

• 30 points if your other contributions are more than 80 percent of the total project cost.

4. Major Natural Disaster (7 CFR 4284.639(d)(1)). You must provide a Federal Emergency Management Agency (FEMA) disaster reference number or USDA disaster declaration date and description for any disasters that occurred within 3 years of the application deadline in the counties in the project service area. We will award 15 points if a FEMA disaster reference number or USDA disaster declaration date and description is provided for the majority of the counties in an applicant's service area; otherwise we will award 0 points.

5. Fundamental Structural Change (7 CFR 4284.639(d)(2)). You must describe a structural change (for example, the loss of major employer or closing of a military base) that occurred within or affected one or more of the counties in the project service area. The structural change must have occurred within the 3 years prior to submitting your application. We will award 15 points if the structural change affected the majority of the counties in your service area and if it caused the loss of at least 100 jobs; otherwise the Agency will award 0 points.

6. Long-Term Poverty (7 CFR 4284.639(d)(3)). You must provide the percentage of residents living below the poverty level from the 1990 decennial census and the most recent Five-Year American Community Survey (ACS) for the project's service area as follows. If you do not provide the requested statistics, we will award 0 points.

• If your project's service area is only one city or town, you must provide the percentage of residents living below the poverty level for that city or town from the 1990 census and the ACS. If your service area is unincorporated, please contact us to determine which data will be required. We will award 10 points if these statistics show that the city/town had a percentage of residents living below the poverty level that was above the State percentage in both the 1990 census and the ACS; otherwise we will award 0 points.

• If your project's service area is more than one city or town within a county, you must provide the percentage of residents living below the poverty level for the county from the 1990 census and the ACS. We will award 10 points if these statistics show that the county had a percentage of residents living below the poverty level that was above the State percentage in both the 1990 census and the ACS; otherwise we will award 0 points.

• If your project's service area includes multiple counties (even in part), you must provide the percentage of residents living below the poverty level from the 1990 census and the ACS for each county in the service area. We will award 10 points if these statistics show that more than 50 percent of the counties had a percentage of residents living below the poverty level that was above the State percentage in both the 1990 census and the ACS; otherwise we will award 0 points.

• If your project's service area is one or more Native American reservations, you must provide the percentage of residents living below the poverty level from the 1990 census and the ACS for each reservation in the service area. If the service area is one reservation, we will award 10 points if these statistics show that the reservation had a percentage of residents living below the poverty level that was above the State percentage in both the 1990 census and the ACS; otherwise we will award 0 points. If the service area is more than one reservation, we will award 10 points if these statistics show that more than half of the reservations had a percentage of residents living below the poverty level that was above the State percentage in both the 1990 census and the ACS; otherwise we will award 0 points.

If you need assistance locating the requested information, you should contact your Rural Development State Office or you can visit the RBOG program Web site at: http://www.rurdev.usda.gov/BCP_RBOG.html.

7. Long-Term Population Decline (7 CFR 4284.639(d)(4)). You must provide population statistics from the 1990 census and the most recent Five-Year ACS for the project's service area as follows. If you do not provide the requested statistics, we will award 0 points.

• If your project's service area is only one city or town, you must provide the population from the 1990 census and the ACS for that city or town. If your service area is unincorporated, please contact us to determine which data will be required. We will award 10 points if the city/town experienced a net loss of population between the 1990 census and the ACS; otherwise, we will award 0 points.

• If your project's service area is more than one city or town within a county, you must provide the population from the 1990 census and the ACS for the county. We will award 10 points if the county experienced a net loss of population between the 1990 census and the ACS; otherwise, we will award 0 points.

• If your project's service area includes multiple counties (even in part), you must provide the population from the 1990 census and the ACS for each county in the service area. We will award 10 points if more than 50 percent of the counties in the service area experienced a net loss of population between the 1990 census and the ACS; otherwise, we will award 0 points.

• If your project's service area is one or more Native American reservations, you must provide the population from the 1990 census and the ACS for each reservation in the service area. If the service area includes one reservation, we will award 10 points if the reservation experienced a net loss of population between the 1990 census and the ACS; otherwise we will award 0 points. If the service area includes multiple reservations, we will award 10 points if more than 50 percent of the reservations in the service area experienced a net loss of population between the 1990 census and the ACS; otherwise, we will award 0 points.

If you need assistance locating the requested information, you should contact your Rural Development State Office or you can visit the RBOG program Web site at: http://www.rurdev.usda.gov/BCP_RBOG.html.

8. Long-Term Job Deterioration (7 CFR 4284.639(d)(5)). You must provide the unemployment rate from the 1990 census and the most recent Five-Year ACS for the project's service area as follows. If you do not provide the requested statistics, we will award 0 points.

• If your project's service area is only one city or town, you must provide the unemployment rate from the 1990 census and the ACS for that city or town. If your service area is unincorporated, please contact us to determine which data will be required. We will award 10 points if the city/town had an unemployment rate above the State unemployment rate in both the 1990 census and the ACS; otherwise, we will award 0 points.

• If your project's service area is more than one city or town within a county, you must provide the unemployment rate from the 1990 census and the ACS for the county. We will award 10 points if the county had an unemployment rate above the State unemployment rate in both the 1990 census and the ACS; otherwise, we will award 0 points.

• If your project's service area includes multiple counties (even in part), you must provide the unemployment rate from the 1990 census and the ACS for each county in the service area. We will award 10 points if more than 50 percent of the counties in the service area had an unemployment rate above the State unemployment rate in both the 1990 census and the ACS; otherwise, we will award 0 points.

• If your project's service area is one or more Native American reservations, you must provide the unemployment rate(s) from the 1990 census and the ACS for each reservation in the service area. If the service area includes one reservation, we will award 10 points if the reservation had an unemployment rate above the State unemployment rate in both the 1990 census and the ACS; otherwise we will award 0 points. If the service area includes multiple reservations, we will award 10 points if more than 50 percent of the reservations in the service area had unemployment rates above the State unemployment rate in both the 1990 census and the ACS; otherwise, we will award 0 points.

If you need assistance locating the requested information, you should contact your Rural Development State Office or you can visit the RBOG program Web site at: http://www.rurdev.usda.gov/BCP_RBOG.html.

9. Best Practices (7 CFR 4284.639(e)). You must describe how your project could be replicated, including any potentially necessary modifications, in other communities or service areas. We will score the criterion as follows:

• 0 points if your project could not be replicated.

• 1-3 points if your project could be replicated in another community, but with substantial modifications.

• 4-6 points if your project could be replicated in another community, but with moderate modifications.

• 7-10 points if your project could be replicated in another community, with minimal modifications.

10. Discretionary Points (7 CFR 4284.639(f)). If you wish to be considered for up to 20 additional discretionary points, your application must include a description of the following:

• The project service area, and/or

• The special importance for implementation of a regional strategic plan in partnership with other organizations, and/or

• The extraordinary potential for success of the project due to superior project plans or qualifications of your organization, including the key personnel for the project.

Applications can receive discretionary points from the Administrator of the Rural Business-Cooperative Service. Because awarding these points is completely at the option of the Administrator, no additional point break down can be provided.

VI. Award Administration Information

A. Award Notices

If an application is successful, you will receive notification regarding funding from the Rural Development State Office where the application was submitted. You must comply with all applicable statutes and regulations before the grant award will be approved. If your application is not successful, you will receive notification by mail.

All adverse determinations regarding applicant eligibility and the awarding of points as part of the selection process are administratively appealable (see 7 CFR part 11). Instructions about the appeal process will be provided at the time an applicant is notified of the adverse decision.

B. Administrative and National Policy Requirements

Additional requirements that apply to grantees selected for this program can be found in 7 CFR part 4284, subparts A and G, parts 3015, 3016 (as applicable), 3019 (as applicable), 3052, and 2 CFR parts 215 and 417. All recipients of Federal financial assistance are required to comply with the Federal Funding Accountability and Transparency Act of 2006 and must report information about subawards and executive compensation (see 2 CFR part 170). These recipients must also maintain their registration in SAM as long as their grants are active. So long as an applicant does not have an exception under 2 CFR 170.110(b), the applicant must have the necessary processes and systems in place to comply with the reporting requirements should the applicant receive funding (see 2 CFR 170.200(b)). These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent to Meet Conditions.”

• Form AD-1047, “Certification Regarding Debarment, Suspension, and Other Responsibility Matters-Primary Covered Transactions.”

• Form AD-1048, “Certification Regarding Debarment, Suspension, Ineligibility and Voluntary Exclusion-Lower Tier Covered Transactions.”

• Form AD-1049, “Certification Regarding a Drug-Free Workplace Requirement (Grants).”

• Form RD 400-4, “Assurance Agreement.”

• SF LLL, “Disclosure of Lobbying Activities,” if applicable.

• SF-425, “Federal Financial Report.”

VII. Agency Contacts

If you have questions about this Notice, please contact the Rural Development State Office located in your State as identified in the ADDRESSES section of this notice.

VIII. Nondiscrimination Statement

Non-Discrimination Policy

USDA prohibits discrimination against its customers, employees, and applicants for employment on the bases of race, color, national origin, age, disability, sex, gender identify, religion, reprisal, and where applicable, political beliefs, marital status, familial or parental status, sexual orientation, or all or part of an individual's income is derived from any public assistance program, or protected genetic information in employment or in any program or activity conducted or funded by the Department. (Not all prohibited bases will apply to all programs and/or employment activities.)

To File a Program Complaint

If you wish to file a Civil Rights program complaint of discrimination, complete the USDA Program Discrimination Complaint Form (PDF), found online at http://www.ascr.usda.gov/complain_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Persons with Disabilities

Individuals who are deaf, hard of hearing or have speech disabilities and who wish to file either an EEO or program complaint, please contact USDA through the Federal Relay Service at (800) 877-8339 or (800) 845-6136 (in Spanish).

Persons with disabilities who wish to file a program complaint, please see information above on how to contact us by mail directly or by email. If you require alternative means of communication for program information (e.g., Braille, large print, audiotape, etc.), please contact USDA's TARGET Center at (202) 720-2600 (voice and TDD).

Dated: April 24, 2014.
Ashli Palmer,
Acting Administrator, Rural Business-Cooperative Service.

[FR Doc. 2014-10080 Filed 5-1-14; 8:45 am]

BILLING CODE 3410-XY-P